FEDERAL COMMUNICATIONS COMMISSION

Sunshine Act Meeting; Open Commission Meeting; Thursday, October 16, 2003

The Federal Communications Commission will hold an Open Meeting on the subjects listed below on Thursday, October 16, 2003, which is scheduled to commence at 9:30 a.m. in Room TW-C305, at 445 12th Street, SW, Washington, DC.

Item No. | Bureau | Subject
1 | Wireless Tele-Communications | Title: Allocations and Service Rules for the 71-76 GHz, 81-86 GHz and 92-95 GHz Bands (WT Docket No. 02-146); and Loea Communications Corporation Petition for Rulemaking (RM-10288). Summary: The Commission will consider a Report and Order concerning the allocation, band plan and service rules in the 71-76 GHz, 81-86 GHz and 92-95 GHz bands.
2 | Wireline Competition | Title: Federal-State Joint Board on Universal Service (CC Docket No. 96-45). Summary: The Commission will consider an Order on Remand, Further Notice of Proposed Rulemaking, and Memorandum Opinion and Order concerning the universal service support mechanism for non-rural carriers. The item responds to the decision of the United States Court of Appeals for the Tenth Circuit remanding the Ninth Report and Order and the recommendations of the Federal-State Joint Board on Universal Service.
3 | Wireless Tele-Communications and International | Title: Auction of Direct Broadcast Satellite Licenses (AUC-03-52). Summary: The Commission will consider an Order to resolve issues raised in the Auction No. 52 Comment Public Notice related to the Commission's authority to auction Direct Broadcast Satellite (“DBS”) licenses and eligibility for the U.S. DBS licenses currently available.
4 | Media | Title: DTV Build-out; Requests for Extension of the Digital Television Construction Deadline; and Commercial Television Stations with May 1, 2002, Deadline. Summary: The Commission will consider an Order concerning applications submitted by commercial television stations seeking extensions of the May 1, 2002, deadline for construction of their digital television facilities.
5 | Wireless Tele-Communications | Title: Service Rules for Advanced Wireless Services in the 1.7 GHz and 2.1 GHz Bands (WT Docket No. 02-353). Summary: The Commission will consider a Report and Order concerning licensing, technical and competitive bidding rules for spectrum at 1710-1755 MHz and 2110-2155 MHz allocated for advanced wireless services (AWS).

Additional information concerning this meeting may be obtained from Audrey Spivack or David Fiske, Office of Media Relations, (202) 418-0500; TTY 1-888-835-5322.

Audio/Video coverage of the meeting will be broadcast live over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (03) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-26418 Filed 10-15-03; 2:18 pm]

BILLING CODE 6712-01-P